CONSUMER PRODUCT SAFETY COMMISSION

[Docket No. CPSC-2024-0035]

Agency Information Collection Activities; Extension of Collection; Comment Request; Child Strength Study

AGENCY: Consumer Product Safety Commission.

ACTION: Notice of information collection; request for comment.

SUMMARY: As required by the Paperwork Reduction Act of 1995, the Consumer Product Safety Commission (CPSC or Commission) requests comments on a proposed extension of approval of a generic collection of information for a strength data collection study. The Office of Management and Budget (OMB) previously approved the collection of information under control number 3041-0187. OMB's most recent extension of approval will expire on January 31, 2025. The Commission will consider all comments received in response to this notice before requesting an extension of this collection of information from OMB.

DATES: Submit comments on the collection of information by December 23, 2024.

ADDRESSES: You may submit comments, identified by Docket No. CPSC-2024-0035, within 60 days of publication of this notice by any of the following methods:

Electronic Submissions: Submit electronic comments to the Federal eRulemaking Portal at: http://www.regulations.gov. Follow the instructions for submitting comments. Do not submit through this website: confidential business information, trade secret information, or other sensitive or protected information that you do not want to be available to the public. The Commission typically does not accept comments submitted by email, except as described below.

Mail/hand delivery/courier/written submissions: CPSC encourages you to submit electronic comments by using the Federal eRulemaking Portal. You may, however, submit comments by mail/hand delivery/courier to: Office of the Secretary, Consumer Product Safety Commission, 4330 East West Highway, Bethesda, MD 20814; telephone (301) 504-7923.

Instructions: All submissions received must include the agency name and docket number for this notice. CPSC may post all comments without change, including any personal identifiers, contact information, or other personal information provided, to: http://www.regulations.gov. If you wish to submit confidential business information, trade secret information, or other sensitive or protected information that you do not want to be available to the public, you may submit such comments by mail, hand delivery, or courier, or you may email them to cpsc-os@cpsc.gov.

Docket: For access to the docket to read background documents or comments received, go to: https://www.regulations.gov, insert docket number CPSC-2024-0035 into the “Search” box, and follow the prompts.

FOR FURTHER INFORMATION CONTACT: Cynthia Gillham, Consumer Product Safety Commission, 4330 East West Highway, Bethesda, MD 20814; (301) 504-7791, or by email to: pra@cpsc.gov.

SUPPLEMENTARY INFORMATION: CPSC seeks to extend the following currently approved generic collection of information:

Title: Child Strength Study.

OMB Number: 3041-0187.

Type of Review: Extension of generic collection.

Frequency of Response: On occasion.

Affected Public: Child participants and their caregivers.

Estimated Number of Respondents: We estimate 5,210 people will be invited for the study and 1,563 initial respondents will complete screening. Out of the initial respondents, 563 are expected to be screened out or not expected to ultimately participate after the invitation for study. We estimate that there will be 1,000 participants for the lab portion of the study.

Estimated Time per Response: The estimated time to complete a study session is 2 hours per participant. This does not account for the time for inviting and screening participants via phone conversations with the caregiver, which is additional 12 minutes per respondent.

Total Estimated Annual Burden: Based on CPSC's estimates that 5,210 people will be invited for the study (3 minutes per invite), 1,563 initial respondents will complete screening (9 minutes per screening) and there will be 1,000 participants for the lab portion of the study (2 hours to complete each study session), CPSC estimates that the total burden of this collection is 2,267 hours. The average annual burden is approximately 756 hours; however, because of study timing and efficiency, a single year could have up to 1,850 burden hours. There are no costs to respondents and no respondent recordkeeping requirements associated with the study.

General Description of Collection: CPSC uses data on human strength and capabilities to develop product safety standards and to inform other CPSC staff activities. Strength capabilities of children are used to develop product performance requirements in standards to reduce or eliminate the risk such products might pose to a child (e.g., breaking, collapsing, or liberating a small part). The information to be collected from child participants ranging in age 3 months to 5 years includes contact and background information necessary to participate in a study to obtain child strength measures for upper and lower extremities and bite strength. Written consent is obtained from caregivers and verbal assent is obtained from children who are old enough to provide it. Researchers will obtain several standard anthropometric measurements from each child, including body weight and standing height. Researchers also record the participant's body shape using a whole-body laser scanner (VITUS XXL) and a Microsoft Kinect sensor.

Request for Comments:

The Commission solicits written comments from all interested persons about the proposed collection of information. The Commission specifically solicits information relevant to the following topics:

• whether the collection of information described above is necessary for the proper performance of the Commission's functions, including whether the information would have practical utility;

• whether the estimated burden of the proposed collection of information is accurate;

• whether the quality, utility, and clarity of the information to be collected could be enhanced; and

• whether the burden imposed by the collection of information could be minimized by use of automated, electronic or other technological collection techniques, or other forms of information technology.

Alberta E. Mills,
Secretary, Consumer Product Safety Commission.

[FR Doc. 2024-24594 Filed 10-23-24; 8:45 am]

BILLING CODE 6355-01-P